INTERNATIONAL TRADE COMMISSION

[Investigation Nos. 731-TA-986 and 987 (Review)]

Ferrovanadium From China and South Africa

Determinations

On the basis of the record ¹ developed in the subject five-year reviews, the United States International Trade Commission (Commission) determines, pursuant to section 751(c) of the Tariff Act of 1930 (19 U.S.C. 1675(c)), that revocation of the antidumping duty orders on ferrovanadium from China and South Africa would be likely to lead to continuation or recurrence of material injury to an industry in the United States within a reasonably foreseeable time.

¹ The record is defined in § 207.2(f) of the Commission's Rules of Practice and Procedure (19 CFR 207.2(f)).

Background

The Commission instituted these reviews on December 3, 2007 (72 FR 67962) and determined on March 7, 2008 that it would conduct full reviews (73 FR 14484, March 18, 2008). Notice of the scheduling of the Commission's reviews and of a public hearing to be held in connection therewith was given by posting copies of the notice in the Office of the Secretary, U.S. International Trade Commission, Washington, DC, and by publishing the notice in the Federal Register on July 8, 2008 (73 FR 39040). The hearing was held in Washington, DC, on October 7, 2008, and all persons who requested the opportunity were permitted to appear in person or by counsel.

The Commission transmitted its determinations in these reviews to the Secretary of Commerce on November 24, 2008.

The views of the Commission are contained in USITC Publication 4046 (November 2008), entitled Ferrovanadium from China and South Africa: Investigation Nos. 731-TA-986-987 (Review).

By order of the Commission.
Issued: November 24, 2008.
William R. Bishop,
Acting Secretary to the Commission.

[FR Doc. E8-28393 Filed 11-28-08; 8:45 am]

BILLING CODE 7020-02-P